DEPARTMENT OF TRANSPORTATION

Federal Highway Administration

Notice of Final Federal Agency Actions on a Proposed Highway Project in California

AGENCY: Federal Highway Administration (FHWA), U.S. DOT.

ACTION: Notice of Limitation on Claims for Judicial Review of Actions by FHWA and other Federal agencies.

SUMMARY: This notice announces actions taken by the FHWA and other Federal agencies that are final within the meaning of 23 U.S.C. 139(1)(1). These actions relate to a proposed Highway project on these actions grants approval for the project.

DATES: By this notice, the FHWA is advising the public of final agency actions subject to 23 U.S.C. 139(1)(1). A claim seeking judicial review of the Federal agency actions on the highway project will be barred unless the claim is filed on or before April 14, 2009. If the Federal law that authorizes judicial review of a claim provides a time period of less than 180 days for filing such claim, then that shorter time period still applies.

FOR FURTHER INFORMATION CONTACT: Cesar Perez, Senior Transportation Engineer, Federal Highway Administration, 650 Capitol Mall, #4-100, Sacramento, CA 95814, weekdays between 7 a.m. and 4 p.m., telephone 916-498-5065, cesar.perez@fhwa.dot.gov, or Susanne Glasgow, Deputy Environmental, 4050 Taylor Street, San Diego, California 92110, 619-688-6670.

SUPPLEMENTARY INFORMATION: Notice is hereby given that the FHWA and other Federal agencies have taken final agency actions by issuing approvals for the State Route 11 and Otay Mesa Port of Entry in project in the State of California. The Federal Highway Administration (FHWA) has selected the Western Alternative for the future State Route (SR-) 11 Corridor and the associated Western Site for future development of the Otay Mesa East Port of Entry (POE) in San Diego County, California. The selection of a corridor and site constitute Tier I of the SR-11 and Otay Mesa East POE program. This will allow for the following decisions/actions: (1) Corridor adoption by the California Transportation Commission (CTC); (2) consideration and approval of a conditional Presidential Permit for the POE by the U.S. Department of State (DOS); (3) facilitation of land use and circulation planning in the East Otay Mesa Specific Plan (EOMSP) area by local agencies; (4) support of international cooperation efforts to pursue the development of a new Otay Mesa East POE, and (5) possible future designation of right-of-way (R/W) for each facility. FHWA based its decision on the Final Program Environmental Impact Report/Tier I Environmental Impact Statement for the program (PEIR/PEIS, August 2008) and its supporting studies. With adoption of a Record of Decision (ROD) by FHWA and the California Department of Transportation (Caltrans), and the use of the PEIR/PEIS and its supporting studies by the General Services Administration (GSA) to make its own POE site location NEPA determination, these agencies will proceed with identification and analysis of design and operational alternatives for SR-11 and the POE, and environmental processing of the projects under Tier II, with the knowledge that the overall program has been approved.

Actions by the Federal agencies and the laws under which such actions were taken are described in the Final Environmental Assessment for the project. The Record of Decision (ROD) was approved on October 3, 2008. The Final Environmental Impact Statement and other documents in the FHWA administrative record file are available by contacting the FHWA or the California Department of Transportation at the addresses provided above.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act 42 U.S.C. 7401-7671(q).

3. Wildlife: Endangered Species Act [16 U.S.C. 1531-1544 and Section 1536], Fish and Wildlife Coordination Act [16 U.S.C. 661-667(d)]. Migratory Bird Treaty Act [16 U.S.C. 703-712].

4. Historic and Cultural Resources: Section 106 of the National Historic Preservation Act of 1966, as amended [16 U.S.C. 470(aa) 11]; Archeological Resources Protection Act of 1977 [16 U.S.C. 470(aa)-11]; Archeological and Historic Preservation Act [16 U.S.C. 469-469(c)]; Native American Grave Protection and Repatriation Act (NAGPRA) [25 U.S.C. 3001-3013].

5. Social and Economic: Civil Rights Act of 1964 [42 U.S.C. 2000(d)-2000(d) (1)]; American Indian Religious Freedom Act [42 U.S.C. 1996]; Farmland Protection Policy Act (FPPA) [7 U.S.C. 4201-4209]; The Uniform Relocation Assistance and Real Property Acquisition Policies Act of 1970, as amended.

6. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

7. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. I39(1)(1).

Issued on: October 9, 2008.
Nancy E. Bobb,
Director, State Programs, Federal Highway Administration, Sacramento, California.

[FR Doc. E8-24578 Filed 10-15-08; 8:45 am]

BILLING CODE 4910-22-P